SECURITIES AND EXCHANGE COMMISSION

[Release No. 34-83116; File No. SR-MRX-2018-08]

Self-Regulatory Organizations; Nasdaq MRX, LLC; Notice of Designation of Longer Period for Commission Action on Proposed Rule Change To Introduce the ATR Protection for Orders That Are Routed to Away Markets

April 26, 2018.

On February 23, 2018, Nasdaq MRX, LLC (“Exchange”) filed with the Securities and Exchange Commission (“Commission”), pursuant to Section 19(b)(1) of the Securities Exchange Act of 1934 (“Act”) ¹ and Rule 19b-4 thereunder,² a proposed rule change to amend Exchange Rule 714 regarding the Acceptable Trade Range protection for orders and quotes. The proposed rule change was published for comment in the Federal Register on March 14, 2018.³ On April 23, 2018, the Exchange submitted Amendment No. 1 to the proposed rule change.⁴ The Commission received no comments on the proposed rule change.

¹ 15 U.S.C. 78s(b)(1).

² 17 CFR 240.19b-4.

³ See Securities Exchange Act Release No. 82848 (March 9, 2018), 83 FR 11276 (“Notice”).

⁴ See Letter to Brent J. Fields, Secretary, Commission, from Adrian Griffiths, Senior Associate General Counsel, Nasdaq, Inc., dated April 23, 2018. Amendment No. 1 revises the proposed rule change to: (i) Provide further discussion of the current application of the ATR to orders routed away; (ii) modify the proposed rule text regarding the recalculation of the ATR for orders routed away pursuant to Supplementary Material to Exchange Rule 1901, if the applicable National Best Bid or the National Best Offer price is improved at the time of routing; (iii) expand the discussion and justification for recalculating the ATR for such orders; and (iv) make other amendments to the proposed rule text to improve the understandability of the current ATR calculation. Amendment No. 1 is available at: https://www.sec.gov/comments/sr-mrx-2018-08/mrx201808-3492392-162259.pdf.

Section 19(b)(2) of the Act ⁵ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether these proposed rule changes should be disapproved. The 45th day for this filing is April 28, 2018.

⁵ 15 U.S.C. 78s(b)(2).

The Commission is extending the 45-day time period for Commission action on the proposed rule change. The Commission finds that it is appropriate to designate a longer period within which to take action on the proposed rule change so that it has sufficient time to consider and take action on the Exchange's proposed rule change.

Accordingly, pursuant to Section 19(b)(2)(A)(ii)(I) of the Act ⁶ and for the reasons stated above, the Commission designates June 12, 2018 as the date by which the Commission should either approve or disapprove, or institute proceedings to determine whether to disapprove, the proposed rule change (File No. SR-MRX-2018-08).

⁶ 15 U.S.C. 78s(b)(2)(A)(ii)(I).

For the Commission, by the Division of Trading and Markets, pursuant to delegated authority.⁷

⁷ 17 CFR 200.30-3(a)(31).

Eduardo A. Aleman,
Assistant Secretary.

[FR Doc. 2018-09261 Filed 5-1-18; 8:45 am]

BILLING CODE 8011-01-P